DEPARTMENT OF ENERGY

Federal Energy Regulatory Commission

[Docket Nos. CP04-223-000 and CP04-293-000]

KeySpan LNG, L.P.; Notice of Technical Conference

August 18, 2004.

On Thursday, September 9, 2004, at 9 a.m. (e.d.t.), staff of the Office of Energy Projects will convene a cryogenic design and technical conference regarding the proposed KeySpan LNG Facility Upgrade Project. The cryogenic conference will be held in the North Rosemoor Ballroom at the Holiday Inn at 21 Atwell Avenue, Providence, Rhode Island. In view of the nature of security issues to be explored, the cryogenic conference will not be open to the public. Attendance at this conference will be limited to existing parties to the proceeding (anyone who has specifically requested to intervene as a party) and to representatives of interested Federal, State, and local agencies. Any person planning to attend the September 9 cryogenic conference must register by close of business on Tuesday, September 7, 2004. Registrations may be submitted either online at http://www.ferc.gov/whats-new/registration/cryo-0909-form.asp or by faxing a copy of the form (found at the referenced online link) to (202) 208-2106. All attendees must sign a non-disclosure statement prior to entering the conference. For additional information regarding the cryogenic conference, please contact Heather Ferree at heather.ferree@ferc.gov or call (202) 502-6414.

Linda Mitry,
Acting Secretary.

[FR Doc. E4-1916 Filed 8-24-04; 8:45 am]

BILLING CODE 6717-01-P